DEPARTMENT OF AGRICULTURE

Rural Utilities Service

Northeast Texas Electric Cooperative, Inc.; Notice of Availability of a Finding of No Significant Impact

AGENCY: Rural Utilities Service, USDA.

ACTION: Notice of finding of no significant impact.

SUMMARY: Notice is hereby given that the Rural Utilities Service (RUS) has made a finding of no significant impact (FONSI) with respect to a request from Northeast Texas Electric Cooperative, Inc. (NTEC), for assistance from RUS to finance its share of the construction of a combined cycle combustion turbine generating station and associated facilities in Harrison County, Texas.

FOR FURTHER INFORMATION CONTACT: Dennis E. Rankin, Environmental Protection Specialist, RUS, Engineering and Environmental Staff, Stop 1571, 1400 Independence Avenue, SW., Washington, DC 20250-1571, telephone: (202) 720-1953 or e-mail: drankin@rus.usda.gov.

SUPPLEMENTARY INFORMATION: Entergy Power Generation Corporation is constructing a 570 MW combined cycle combustion turbine generating station in Harrison County, Texas. The project is located approximately 8 miles southwest of Marshall, Texas on State Highway 43. Ancillary facilities include the utilization of the City of Longview treated municipal wastewater via a new 17-mile pipeline. The use of water from Caddo Lake has been subsequently dropped from further consideration. Transmission line facilities include the construction of 5.5-miles of 345 kV transmission line from the Pirkey Substation to the Harrison County Power Project and the LeBrock Switching Station. A 0.5-mile interconnection line will be constructed to loop the existing Pirkey-Tenaska 345 kV transmission line through the LeBrock Switching Station. The transmission facilities will be constructed, operated and maintained by Southwestern Electric Power Company.

Based on its environmental and engineering assessment of the project, RUS has concluded that the construction and operation of the proposed facilities would have no significant impact to the quality of the human environment. Therefore, RUS will not prepare an environmental impact statement for its action related to this project.

Copies of the document are available from RUS at the address provided herein.

Dated: September 23, 2002.
Sylvia M. Green,
Acting Assistant Administrator, Electric Program, Rural Utilities Service.

[FR Doc. 02-24596 Filed 9-26-02; 8:45 am]

BILLING CODE 3410-15-P